DEPARTMENT OF ENERGY

DOE/NSF Nuclear Science Advisory Committee

AGENCY: Office of Science, Department of Energy.

ACTION: Notice of renewal.

SUMMARY: Pursuant to Section 14(a)(2)(A) of the Federal Advisory Committee Act, as amended, and following consultation with the Committee Management Secretariat, General Services Administration, notice is hereby given that the DOE/NSF Nuclear Science Advisory Committee (NSAC) has been renewed for a two-year period.

The Committee will provide advice and recommendations to the Director, Office of Science (DOE), and the Assistant Director, Directorate for Mathematical and Physical Sciences (NSF), on scientific priorities within the field of basic nuclear science research.

Additionally, the renewal of the NSAC has been determined to be essential to conduct business of the Department of Energy and the National Science Foundation, and to be in the public interest in connection with the performance of duties imposed upon DOE and NSF, by law and agreement. The Committee will continue to operate in accordance with the provisions of the Federal Advisory Committee Act, adhering to rules and regulations issued implementation of that Act.

FOR FURTHER INFORMATION CONTACT: Dr. Timothy Hallman at (301) 903-3613.

Issued in Washington, DC on September 29, 2017.
Shena Kennerly,
Acting Committee Management Officer.

[FR Doc. 2017-21918 Filed 10-11-17; 8:45 am]

BILLING CODE 6450-01-P